ENVIRONMENTAL PROTECTION AGENCY

[FRL-9191-6]

Notice of Extended Availability of Draft National Pollutant Discharge Elimination System (NPDES) General Permit for Residually Designated Discharges in Milford, Bellingham and Franklin, Massachusetts; and Notice of Extended Availability of Proposed Amendments to the Preliminary Residual Designation Issued by EPA on November 12, 2008

AGENCY: Environmental Protection Agency (EPA).

ACTION: Notice of Extended Availability of Draft NPDES General Permit.

SUMMARY: On April 20, 2010, the Director of the Office of Ecosystem Protection, Environmental Protection Agency-Region 1 (EPA), issued a Notice of Availability of a draft NPDES general permit for storm water discharges in the Charles River watershed within Milford, Bellingham and Franklin, Massachusetts, from sites that are proposed for final designation for NPDES permitting pursuant to EPA's residual designation authority, and a Notice of Availability of Proposed Amendments to the Preliminary Residual Designation issued by EPA on November 12, 2008 (see FRL-9139-4). Today EPA is extending the public comment period for the draft permit and proposed Residual Designation until September 30, 2010. The draft general permit, appendices, and fact sheet are available at: http://www.epa.gov/region1/npdes/stormwater.

DATES: The public comment period is extended to September 30, 2010. Interested persons may submit comments on the draft general permit and the proposed Residual Designation to EPA-Region 1, at the address given below, no later than midnight September 30, 2010. Those comments will be placed in the administrative record for the designation and permit. The general permit shall be effective on the date specified in the Federal Register publication of the Notice of Availability of the final general permit. The final general permit will expire five years from its effective date.

ADDRESSES: Submit comments identified by Docket ID No. EPA-R01-OW-2010-0292 by one of the following methods:

• http://www.regulations.gov: Follow the on-line instructions for submitting comments.

• E-mail: Voorhees.mark@epa.gov.

• Mail: Mark Voorhees, US EPA—Region 1, 5 Post Office Square—Suite 100, Mail Code—OEP 06-4, Boston, MA 02109-3912.

No facsimiles (faxes) will be accepted.

FOR FURTHER INFORMATION CONTACT: Additional information concerning the draft permit may be obtained between the hours of 9 a.m. and 5 p.m. Monday through Friday excluding holidays from: Mark Voorhees, Office of Ecosystem Protection, Environmental Protection Agency, 5 Post Office Square—Suite 100, Boston, MA 02109-3912; telephone: 617-918-1537; e-mail: Voorhees.mark@epa.gov.

Dated: August 12, 2010.
Ira Leighton,
Acting Spalding, Regional Administrator, Region 1.

[FR Doc. 2010-20706 Filed 8-19-10; 8:45 am]

BILLING CODE 6560-50-P